DEPARTMENT OF HEALTH AND HUMAN SERVICES

National Institutes of Health

Office of the Director, National Institutes of Health; Office of Biotechnology Activities; Recombinant DNA Research; Notice of a Meeting of an NIH Blue Ribbon Panel

There will be a meeting of the NIH Blue Ribbon Panel to advise on the Risk Assessment of the National Emerging Infectious Diseases Laboratories (NEIDL) at Boston University Medical Center. The meeting will be held on Friday, May 16, 2008, at The Commonwealth of Massachusetts Bureau of State Office Buildings, State House, Gardner Auditorium, 24 Beacon Street, Boston, Massachusetts 02133, from approximately 9 a.m. to 12 p.m.

Discussions will include the charge to the Panel and the process and framework for deliberations. There will also be time allotted on the agenda for public comment. Sign up for public comment will begin at approximately 8 a.m. on May 16, 2008. In the event that time does not allow for all those interested to present oral comments, anyone may file written comments using the address below.

To file written comments or for further information concerning this meeting contact Ms. Laurie Lewallen, Advisory Committee Coordinator, Office of Biotechnology Activities, Office of the Director, National Institutes of Health, Mail Stop Code 7985, Bethesda, MD 20892-7985, 301-496-9838, lewallla@od.nih.gov

The meeting will be open to the public, with attendance limited to space available. Individuals who plan to attend and need special assistance, such as sign language interpretation or other reasonable accommodations, should notify the Contact Person listed above in advance of the meeting. Any interested person may file written comments with the panel by forwarding the statement to the Contact Person listed on this notice. The statement should include the name, address, telephone number and when applicable, the business or professional affiliation of the interested person.

An agenda and any additional information for the meeting will be posted on the agency's Web site: http://www.nih.gov/about/director/acd/index.htm.

Background information may be obtained by contacting NIH OBA by e-mail oba@od.nih.gov

Dated: April 29, 2008.
Amy P. Patterson,
Director, Office of Biotechnology Activities.

[FR Doc. E8-10011 Filed 5-6-08; 8:45 am]

BILLING CODE 4140-01-P